DEPARTMENT OF HOMELAND SECURITY

Federal Emergency Management Agency

[Docket ID FEMA-2018-0002; Internal Agency Docket No. FEMA-B-1851]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 26, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1851, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

Community | Community map repository address
Wilson County, Kansas and Incorporated Areas
Project: 17-07-0080S Preliminary Date: April 27, 2018
City of Altoona | City Hall, 715 Main Street, Altoona, KS 66710.
City of Benedict | Wilson County Courthouse, 615 Madison Street, Fredonia, KS 66736.
City of Coyville | City Office, 21939 Decatur Road, Coyville, KS 66736.
City of Fredonia | City Hall, 100 North 15th Street, Fredonia, KS 66736.
City of Neodesha | City Hall, 1407 North 8th Street, Neodesha, KS 66757.
City of New Albany | Wilson County Courthouse, 615 Madison Street, Fredonia, KS 66736.
Unincorporated Areas of Wilson County | Wilson County Courthouse, 615 Madison Street, Fredonia, KS 66736.
Grundy County, Missouri and Incorporated Areas
Project: 17-07-0145S Preliminary Date: February 23, 2018
City of Galt | City Hall, 102 South Main Street, Galt, MO 64641.
City of Laredo | City Hall, 213 East Main Street, Laredo, MO 64652.
City of Spickard | City Hall, 303 Jefferson Street, Spickard, MO 64679.
City of Tindall | Grundy County Courthouse, 700 Main Street, Trenton, MO 64683.
Unincorporated Areas of Grundy County | Grundy County Courthouse, 700 Main Street, Trenton, MO 64683.
Village of Dunlap | Grundy County Courthouse, 700 Main Street, Trenton, MO 64683.
Knox County, Missouri and Incorporated Areas
Project: 17-07-0179S Preliminary Date: February 23, 2018
City of Edina | City Hall, 204 East Monticello Street, Edina, MO 63537.
City of Novelty | Knox County Courthouse, 107 North 4th Street, Edina, MO 63537.
Unincorporated Areas of Knox County | Knox County Courthouse, 107 North 4th Street, Edina, MO 63537.
Village of Newark | Village Hall, 105 North Main Street, Newark, MO 63458.
Mercer County, Missouri and Incorporated Areas
Project: 17-07-0153S Preliminary Date: February 23, 2018
City of Princeton | City Hall, 507 West Main Street, Princeton, MO 64673.
Unincorporated Areas of Mercer County | Mercer County Courthouse, 802 East Main Street, Princeton, MO 64673.
Nodaway County, Missouri and Incorporated Areas
Project: 17-07-0158S Preliminary Date: March 2, 2018
City of Barnard | City Hall, 504 4th Street, Barnard, MO 64423.
City of Burlington Junction | City Hall, 122 North Clarinda Street, Burlington Junction, MO 64428.
City of Conception Junction | Nodaway County Administration Center, 403 North Market Street, Maryville, MO 64468.
City of Elmo | City Hall, 201 Main Street, Elmo, MO 64445.
City of Hopkins | City Hall, 124 North 3rd Street, Hopkins, MO 64455.
City of Maryville | City Hall, 415 North Market Street, Maryville, MO 64468.
City of Parnell | Nodaway County Administration Center, 403 North Market Street, Maryville, MO 64468.
City of Skidmore | City Hall, 108 South Walnut Street, Skidmore, MO 64487.
Unincorporated Areas of Nodaway County | Nodaway County Administration Center, 403 North Market Street, Maryville, MO 64468.
Village of Arkoe | Nodaway County Administration Center, 403 North Market Street, Maryville, MO 64468.
Village of Clyde | Nodaway County Administration Center, 403 North Market Street, Maryville, MO 64468.
Putnam County, Missouri and Incorporated Areas
Project: 17-07-0163S Preliminary Date: May 9, 2018
City of Powersville | City Hall, 305 Main Street, Powersville, MO 64672.
City of Unionville | City Hall, 1611 Grant Street, Unionville, MO 63565.
Unincorporated Areas of Putnam County | Putnam County Courthouse, 1601 Main Street, Unionville, MO 63565.
Village of Lucerne | Putnam County Courthouse, 1601 Main Street, Unionville, MO 63565.
Ripley County, Missouri and Incorporated Areas
Project: 17-07-0183S Preliminary Date: May 17, 2018
City of Doniphan | City Hall, 124 West Jefferson Street, Doniphan, MO 63935.
City of Naylor | City Hall, 101 North Front Street, Naylor, MO 63953.
Unincorporated Areas of Ripley County | Ripley County Courthouse, 100 Courthouse Square, Doniphan, MO 63935.
Shelby County, Missouri and Incorporated Areas
Project: 17-07-0196S Preliminary Date: May 25, 2018
City of Shelbina | City Hall, 116 East Walnut Street, Shelbina, MO 63468.
City of Shelbyville | City Hall, 106 South Washington Street, Shelbyville, MO 63469.
Unincorporated Areas of Shelby County | Shelby County Courthouse, 100 East Main Street, Shelbyville, MO 63469.
Village of Bethel | City Office, 120 Maple Street, Bethel, MO 63434.
Village of Leonard | Shelby County Courthouse, 100 East Main Street, Shelbyville, MO 63469.
Sullivan County, Missouri and Incorporated Areas
Project: 17-07-0166S Preliminary Date: May 11, 2018
City of Milan | City Hall, 212 East 2nd Street, Milan, MO, 63556.
City of Newtown | City Hall, 127 West Broadway, Newtown, MO 64667.
City of Pollock | Sullivan County Courthouse, 109 North Main Street, Milan, MO 63556.
Unincorporated Areas of Sullivan County | Sullivan County Courthouse, 109 North Main Street, Milan, MO 63556.
Village of Osgood | Sullivan County Courthouse, 109 North Main Street, Milan, MO 63556.
Fairfield County, Ohio and Incorporated Areas
Project: 12-05-8954S Preliminary Date: May 25, 2018
Unincorporated Areas of Fairfield County | Fairfield County Regional Planning Commission, 210 East Main Street, Lancaster, OH 43130.
Village of Bremen | Village Office, 9090 Marietta Street, Bremen, OH 43107.
Monroe County, Wisconsin and Incorporated Areas
Project: 17-05-2645S Preliminary Date: May 15, 2018
Unincorporated Areas of Monroe County | Monroe County Zoning Office, 14345 County Highway B, Suite 5, Sparta, WI 54656.

[FR Doc. 2018-21009 Filed 9-26-18; 8:45 am]

BILLING CODE 9110-12-P